DEPARTMENT OF HEALTH AND HUMAN SERVICES

Centers for Disease Control and Prevention

[60 Day-21-1265; Docket No. CDC-2021-0040]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled the Chronic Disease Self-Management Questionnaire. The questionnaire used for this study will assess Chronic Disease Self-Management participant health behaviors and overall health before and after a six-week workshop.

DATES: CDC must receive written comments on or before June 15, 2021.

ADDRESSES: You may submit comments, identified by Docket No. CDC-2021-0040 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7118; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Evaluation of the Chronic Disease Self-Management Program in the US Affiliated Pacific Islands (OMB Control No. 0920-1265, Exp. 06/30/2021)—Extension—National Center for Chronic Disease Prevention and Health Promotion (NCCDPHP), Centers for Disease Control and Prevention (CDC).

Background and Brief Description

NCCDPHP is evaluating the implementation of Stanford University's Chronic Disease Self-Management Program (CDSMP) in the US Affiliated Pacific Islands (USAPI). These jurisdictions include American Samoa, Guam, the Commonwealth of the Northern Mariana Islands, the Republic of Palau, the Republic of the Marshall Islands, and the Federated States of Micronesia.

The purpose of the evaluation is to understand how CDSMP is being implemented in the region, to identify barriers and facilitators to implementation, to monitor fidelity to Stanford University's model and document adaptations to the curriculum, and to understand the self-reported effects of the program on program participants. Because this is the first time CDSMP is being implemented in the USAPI, we do not know if the intervention, which has proven to improve health outcomes in many ethnic groups within the United States, will lead to improved health outcomes for these communities.

Collecting this data helps us assess fidelity to and adaptations to the intervention and to understand if CDSMP, an evidence-based intervention, has the same effect in the US Affiliated Pacific Islands as it has in multiple ethnic groups within the United States. CDC requests OMB approval for an estimated 95 annual burden hours. There are no costs to respondents other than their time.

Estimated Annualized Burden Hours
Type of respondent | Form name | Number of respondents | Number of responses per respondent | Average burden per response (in hr) | Total burden (in hr)
Program Participant | Chronic Disease Self-Management Workshop Evaluation | 190 | 1 | 10/60 | 32
Program Participant | Chronic Disease Self-Management Questionnaire (Pre-Post Test) | 190 | 2 | 10/60 | 63
Total |  |  |  |  | 95

Jeffrey M. Zirger,
Lead, Information Collection Review Office, Office of Scientific Integrity, Office of Science, Centers for Disease Control and Prevention.

[FR Doc. 2021-07836 Filed 4-15-21; 8:45 am]

BILLING CODE 4163-18-P